DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health.

Dates and Times: January 26, 2005, 9 a.m. to 5 p.m., January 27, 2005, 9 a.m. to 5 p.m.

Place: DoubleTree Hotel San Diego-Mission Valley, 7450 Hazard Center Drive, San Diego, California 92108, Phone: (619) 297-5466; Fax: (619) 297-5499.

Status: The meeting will be open to the public.

Agenda: The agenda includes an overview of the Council's general business activities. The Council will also hear presentations from experts on farmworker issues, including the status of farmworker health at the local and national level. In addition, the Council will be holding a public hearing at which migrant farmworkers, community leaders, and providers will have the opportunity to testify before the Council regarding matters that affect the health of migrant farmworkers. The hearing is scheduled for Thursday, January 27, from 9 a.m. to 12 noon, at the DoubleTree Hotel San Diego-Mission Valley.

The Council meeting is being held in conjunction with the 14th Annual Western Migrant Stream Forum sponsored by the Northwest Regional Primary Care Association, which is being held in San Diego, California, during the same period of time.

Agenda items are subject to change as priorities indicate.

For Further Information Contact: Anyone requiring information regarding the Council should contact Gladys Cate, Office of Minority and Special Populations, staff support to the National Advisory Council on Migrant Health, Bureau of Primary Health Care, Health Resources and Services Administration, 5600 Fishers Lane, Room 15-99, Rockville, Maryland 20857, Telephone (301) 594-0367.

Dated: December 28, 2004.
Steven A. Pelovitz,
Associate Administrator for Administration and Financial Management.

[FR Doc. 05-216 Filed 1-5-05; 8:45 am]

BILLING CODE 4165-15-P